ELECTION ASSISTANCE COMMISSION

Agency Information Collection Activities: Proposed Collection; Comment Request; EAC's Voting System Test Laboratory Accreditation Program Manual

AGENCY: U.S. Election Assistance Commission (EAC).

ACTION: Notice; comment request.

SUMMARY: The EAC, as part of its continuing effort to reduce paperwork and respondent burden in accordance with the Paperwork Reduction Act of 1995, invites the general public and other Federal agencies to take this opportunity to comment on a proposed information collection, EAC's Voting System Test Laboratory Accreditation Program Manual. Comments are invited on: (a) Whether the proposed collection of information is necessary for the proper performance of the functions of the agency, including whether the information shall have practical utility; (b) the accuracy of the agency's estimate of the burden of the proposed information collection, including the validity of the methodology and assumptions used; (c) ways to enhance the quality, utility, and clarity of the information to be collected; and (d) ways to minimize the burden of the information collection on respondents. Comments submitted in response to this notice will be summarized and included in the request for approval of this information collection by the Office of Management and budget; they also will become a matter of public record. This notice requests comments solely on the four criteria above. A separate notice will be published on the Federal Register to request substantive comments on the proposed information collection; please refer to the EAC's Web site, http://www.eac.gov, for further information regarding the submission of substantive comments.

DATES: Written comments must be submitted on or before 5 p.m. EDT on April 4, 2008.

ADDRESSES: Comments and recommendations on the proposed information collection must be submitted in writing through either: (1) Electronically to pracomments@eac.gov. or (2) U.S. postal mail to the U.S. Election Assistance Commission, 1225 New York Avenue, NW., Suite 1100, Washington, DC 20005, Attn: Laiza N. Otero, Election Research Specialist. To ensure receipt and proper handling, comments submitted via U.S. postal mail shall clearly indicate that they are in response to this Federal Register notice by writing “Paperwork Reduction Act” in the heading section of the letter.

FOR FURTHER INFORMATION CONTACT: To request more information on this proposed information collection or to obtain a copy of the EAC's Voting System Test Laboratory Accreditation Program Manual, please, write to the above address or contact Laiza N. Otero, Election Research Specialist, at (202) 566-3100. You may also view the proposed collection instrument by visiting the EAC's Web site at http://www.eac.gov.

SUPPLEMENTARY INFORMATION: Title: Voting System Test Laboratory Accreditation Program Manual.

OMB Number: Pending.

Type of Review: Regular submission.

Needs and Uses: Section 231(b) of the Help America Vote Act (HAVA) of 2002 (42 U.S.C. 15371(b)) requires that the EAC provide for the accreditation and revocation of accreditation of independent, non-federal laboratories qualified to test voting systems to Federal standards. Generally, the EAC considers for accreditation those laboratories evaluated and recommended by the National Institute of Standards and Technology (NIST) pursuant to HAVA Section 231(b)(1). However, consistent with HAVA Section 231(b)(2)(B), the Commission may also vote to accredit laboratories outside of those recommended by NIST upon publication of an explanation of the reason for any such accreditation. In order to meet its statutory requirements under HAVA Section 15371(b), the EAC has developed the EAC's Voting System Test Laboratory Accreditation Program. The procedural requirements of the program are established in the proposed information collection, the EAC Voting System Test Laboratory Accreditation Program Manual. Although participation in the program in voluntary, adherence to the program's procedural requirements is mandatory for participants. The procedural requirements of this Manual will supersede any prior laboratory accreditation requirements issued by the EAC. This manual shall be read in conjunction with the EAC's Voting System Testing and Certification Program Manual (OMB 3265-0004).

Affected Public: Voting system test laboratories.

Estimated Number of Respondents: 8.

Total Annual Responses: 8.

Estimated Total Annual Burden Hours: 200 hours.

Thomas R. Wilkey,
Executive Director, U.S. Election Assistance Commission.

[FR Doc. 08-453 Filed 2-1-08; 8:45 am]

BILLING CODE 6820-KF-M